DEPARTMENT OF ENERGY

Federal Energy Regulatory Commission

[Project No. 7264-010]

Fox River Paper Company and N.E.W. Hydro, Inc.; Notice of Application Ready for Environmental Analysis and Soliciting Comments, Recommendations, Terms and Conditions, and Prescriptions

August 9, 2004.

Take notice that the following hydroelectric application has been filed with the Commission and is available for public inspection.

a. Type of Application: Subsequent License for a Minor Project.

b. Project No.: P-7264-010.

c. Date Filed: January 22, 2003.

d. Applicant: Fox River Paper Company and N.E.W. Hydro, Inc.

e. Name of Project: Middle Appleton Dam Hydroelectric Project.

f. Location: Located on the Lower Fox River, Outagamie County, Wisconsin. This project does not use federal lands.

g. Filed Pursuant to: Federal Power Act 16 U.S.C. 791 (a)-825(r).

h. Applicant Contact: Mr. John Rom, Manager, Fox River Paper Company, P.O. Box 2215, Appleton, Wisconsin 54913, 920-733-7341 or Mr. Arie DeWaal, Mead and Hunt, Inc., 6501 Watts Road, Madison Wisconsin 53719, 608-273-6380.

i. FERC Contact: John Ramer, (202) 502-8969 or E-Mail john.ramer@ferc.gov.

j. Deadline for filing comments, recommendations, terms and conditions, and prescriptions: 60 days from the issuance date of this notice; reply comments are due 105 days from issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments and recommendations may be filed electronically via the Internet in lieu of paper. The Commission strongly encourages electronic filings. See CFR 385.200 (a)(1)(iii) and the instructions on the Commission's Web site (http://www.ferc.gov) under the “e-Filing” link.

k. This application has been accepted, and is ready for environmental analysis at this time.

l. The Middle Appleton Hydroelectric Project would consist of the following existing facilities: (1) A 372-foot-long by about 20-foot-high dam, topped with 15 functional and one non-functional, 20-foot-wide by 10-foot-high, steel Taintor gates; (2) a 35.5-acre reservoir with a gross storage capacity of about 195-acre feet; (3) two power channels, one about 500-foot-long by 40-foot-wide, and another 1,700-foot-long and from 120 foot-to 200-foot-wide; (4) three powerhouses containing seven open-flume Francis turbines with a total maximum hydraulic capacity of 1,650 cubic feet per second (cfs) and seven generating units with a total installed generating capacity of 1,190 kilowatts (kW) and producing a total of 8,635,000 kilowatt hours (kWh) annually; (5) two transformer banks and one 4.16-kilovolt (kV) transmission line; along with (6) appurtenant facilities. The dam and existing project facilities are owned by Fox River Paper Company and N.E.W. Hydro, Inc.

m. A copy of the application is available for review at the Commission in the Public Reference Room or may be viewed on the Commission's Web site at http://www.ferc.gov using the elibrary link. Enter the docket number excluding the last three digits in the docket number field to access the document. For assistance, contact FERC Online Support at FERCOnlineSupport@ferc.gov or toll-free at 1-866-208-3676, or for TTY, (202) 502-8659. A copy is also available for inspection and reproduction at the address in item h. above.

All filings must (1) Bear in all capital letters the title “COMMENTS”, “REPLY COMMENTS”, “RECOMMENDATIONS”, “TERMS AND CONDITIONS”, or “PRESCIPTIONS”; (2) set forth in the heading the name of the applicant and the project number of the application to which the filing responds; (3) furnish the name, address, and telephone number of the person submitting the filing; and (4) otherwise comply with the requirements of 18 CFR 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/esubscribenow.htm to be notified via email of new filings and issuances related to this or other pending projects. For assistance, contact FERC Online Support.

Magalie R. Salas,
Secretary.

[FR Doc. E4-1816 Filed 8-12-04; 8:45 am]

BILLING CODE 6717-01-P